DEPARTMENT OF JUSTICE

Justice Management Division; Agency Information Collection Activities: Proposed Collection: Extension, With Change, of a Previously Approved Collection

ACTION: 30-day notice of information collection under review: Attorney General's Honor Program, Summer Law Intern Program Electronic Applications.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 69, Number 60, page 16287 on March 29, 2004, allowing for a 60 day comment period.

The purpose of this notice is to allow an additional 30 days for public comment until August 19, 2004. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-5806. Comments may also be submitted to the Department of Justice (DOJ), Justice Management Division, Policy and Planning Staff, Attention: Department Clearance Officer, Suite 1600, 601 D Street, NW., Washington, DC 20530.

Written comments and suggestions from the public and affected agencies should address one or more of the following points:

—Evaluate whether the proposed collection of information is necessary for the proper performance of the functions of the agency/component, including whether the information will have practical utility;

—Evaluate the accuracy of the agencies/components estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of information collection: Extension of a previously approved collection.

(2) The title of the form/collection: Attorney General's Honor Program, Summer Law Intern Program Electronic Applications.

(3) The agency form number, if any, and the applicable component of the Department sponsoring the collection: Form number: None. Office of Attorney Recruitment and Management, Justice Management Division, United States Department of Justice.

(4) Affected public who will be asked or required to respond, as well as a brief abstract: Primary: Individuals or households. Other: None. This data collection is used by the way the Department of Justice (DOJ) to hire graduating law students. The application form is submitted voluntarily, once a year by students/judicial law clerks who will be in this applicant pool only once; the information sought relates to the hiring criteria established as an internal matter by DOJ personnel.

(5) An estimate of the total number of respondents and the amount of time estimate for an average respondent to respond: 5,000 respondents at 1 hour per response.

(6) An estimated of the total public burden (in hours) associated with the collection: 5,000 annual burden hours.

If additional information is required, contact: Mrs. Brenda E. Dyer, Department Clearance Officer, United States Department of Justice, Policy and Planning Staff, Justice Management Division, Patrick Henry Building, Suite 1600, 601 D Street, NW., Washington, DC 20530.

Dated: July 14, 2004.
Brenda E. Dyer,
Department Clearance Officer, United States Department of Justice.

[FR Doc. 04-16392 Filed 7-19-04; 8:45 am]

BILLING CODE 4410-26-P